DEPARTMENT OF DEFENSE

Department of the Navy

[USN-2007-0042

Privacy Act of 1974; System of Records

AGENCY: Department of the Navy, DoD.

ACTION: Notice to amend a System of Records.

SUMMARY: The Department of the Navy is amending a system of records notice in its existing inventory of record systems subject to the Privacy Act of 1974, (5 U.S.C. 552a), as amended.

DATES: This proposed action will be effective without further notice on August 22, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

L.M. Bynum,
Alternate OSD Federal Register Liaison Officer, Department of Defense.
Dated July 17, 2007.

N07421-1

System name:

Time and Attendance Feeder Records (April 13, 2001, 66 FR 1957).

Changes:

System identifier:

Delete “N07421” and replace with “NM07421-1”.

* * * * *

System location:

Delete entry and replace with: “Organizational elements of the Department of the Navy. Official mailing addresses are published in the Standard Navy Distribution List that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.”

* * * * *

Authority for maintenance of the system:

Delete entry and replace with “5 U.S.C. 301, Departmental Regulations, 10 U.S.C. 5013, Secretary of the Navy; 10 U.S.C. 5041, Headquarters, Marine Corps and E.O. 9397 (SSN).”

* * * * *

System manager(s) and address:

After “Record Holders:” delete entry and replace with “Organizational elements of the Department of the Navy. Official mailing addresses are published in the Standard Navy Distribution List (SNDL) that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.”

Notification procedure:

Delete para 1 and replace with “Individuals seeking to determine whether information about themselves is contained in this system should address written inquiries to the commanding officer for their organization. Official mailing addresses are published in the SNDL that is available at http://doni.daps.dla.mil/sndl.aspx.”

Record access procedures:

Delete para 1 and replace with “Individuals seeking access to information about themselves contained in this system of records should address written inquiries to the Commanding Officer for their organization. Official mailing addresses are published in the SNDL at http://doni.daps.dla.mil/sndl.aspx.”

* * * * *

NM07421-1

System name:

Time and Attendance Feeder Records.

System location:

Organization elements of the Department of the Navy. Official mailing addressed are published in the Standard Navy Distribution List that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

Categories of records in the system:

Time and attendance data and labor distribution data that includes name, Social Security Number (SSN), work location, job order number, task orders, leave accrual data, occupational series, grade, pay period identification, time card certification information, special pay categories, work schedule, etc.

Authority for maintenance of the system:

5 U.S.C. 301, Departmental Regulations; 10 U.S.C. 5013, Secretary of the Navy; 10 U.S.C. 5041, Headquarters, Marine Corps; and E.O. 9397 (SSN).

Purpose(s):

Records are being collected and maintained for the purpose of tracking time and attendance and labor distribution data for civilian, military, and contractor labor against job order numbers for financial purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' that also apply to this system.

Policies and practices for storing, retrieving, accessing, retaining, and disposing of records in the system;

Storage:

Paper records in file folder and electronic storage media.

Retrievability:

Name, Social Security Number (SSN), organization, pay period.

Safeguards:

Computer processing facilities are located in restricted areas accessible only to authorized persons that are properly screened, cleared, and trained. Manual records and computer printouts are only available to authorized personnel having a need-to-know. Access to individual computers is user-id and password protected. Access to the data base is limited to those with a need to know. Each user has an individual user id and password for access to the database. Transfer of data is accomplished through data encryption.

Retention and disposal:

Feeder reports are maintained at the local office for 6 years and then destroyed. Data base information held by the Defense Information Systems Agency is retained for 6 years and then destroyed.

System manager(s) and address:

Policy Official: Deputy Assistant Secretary of the Navy (Civilian Personnel/Equal Employment Opportunity), 1000 Navy Pentagon, Washington, DC 20350-1000.

Record Holders: Organizational elements of the Department of the Navy. Official mailing addresses are published in the Standard Navy Distribution List (SNDL) that is available at http://doni.daps.dla,mil/sndl.aspx.

Commander, U.S. Joint Forces Command, 1562 Mitscher Avenue, Suite 200, Norfolk, VA 23551-2488.

Commander, U.S. Pacific Command, P.O. Box 64028, Camp H.M. Smith, HI 96861-4028.

Notification procedure:

Individuals seeking to determine whether information about themselves is contained in this system should address written inquiries to the Commanding Officer for their organization. Official mailing addresses are published in the SNDL that is available at http://doni.daps.dla.mil/sndl.aspx.”

Requests should contain the individual's full name, home address, Social Security Number (SSN), organization, pay period, and signed.

Record access procedures:

Individuals seeking access to information about themselves contained in this system of records should address written inquiries to the Commanding Officer for their organization. Official mailing addresses are published in the SNDL at http://doni.daps.dla.mil/sndl.aspx.”

Requests should contain the individual's full name, home address, Social Security Number (SSN), organization, pay period, and signed.

Contesting record procedures:

The Navy's rules for accessing records, and for contesting contents and appealing initial agency determinations are published in Secretary of the Navy Instruction 5211.5; 32 CFR part 701; or may be obtained from the system manager.

Record source categories:

Individual, time sheets, and work schedules.

Exemptions claimed for the system:

None.

[FR Doc. 07-3561 Filed 7-20-07; 8:45 am]

BILLING CODE 5001-06-M